DEPARTMENT OF STATE

[Public Notice: 12742]

Shipping Coordinating Committee Charter Renewal

ACTION: Notice of renewal of an advisory committee charter.

SUMMARY: The Secretary of State announces the renewal of the charter of the Shipping Coordinating Committee, hereinafter referred to as `the Committee,” in accordance with the Federal Advisory Committee Act.

FOR FURTHER INFORMATION CONTACT: For further information about the Committee, please contact Leslie Hunt, Executive Secretary, Shipping Coordinating Committee, U.S. Department of State, Office of Ocean and Polar Affairs, at HuntLW@state.gov or by telephone at (202) 647-3946.

SUPPLEMENTARY INFORMATION: The main objectives of the Committee are:

(a) To provide an avenue for the views of interested members of the public to be presented to the Department of State on a wide range of technical issues connected with international shipping safety, security, and environmental protection.

(b) Generally, meetings are convened prior to meetings of the International Maritime Organization (IMO) and other international meetings as necessary to discuss and make recommendations to the Assistant Secretary of State for Oceans and International Environmental and Scientific Affairs, and to guide U.S. delegations.

The Committee is established under the general authority of the Secretary of State and the Department of State (“the Department”) as set forth in 22 U.S.C. 2656. In accordance with Public Law 92-463, Section 14, it has been formally determined to be in the public interest to continue the Charter for another two years. The Charter was filed on March 7, 2025.

(Authority: 5 U.S.C. 1001 et seq.; 22 U.S.C. 2651a)

Leslie W. Hunt,
Executive Secretary, Shipping Coordinating Committee, Department of State.

[FR Doc. 2025-09846 Filed 5-30-25; 8:45 am]

BILLING CODE 4710-09-P